DEPARTMENT OF STATE

22 CFR Part 41

[Public Notice 4181]

Visas: Documentation of Nonimmigrants Under the Immigration and Nationality Act: XIX Olympic Winter Games and VIII Paralympic Winter Games in Salt Lake City, UT, 2002

AGENCY: Department of State, Bureau of Consular Affairs.

ACTION: Removal of interim rule.

SUMMARY: The Department of State is removing its interim rule on special procedures relating to visa documentation and visa processing for the 2002 Winter Olympic and Paralympic Games in Salt Lake City. Now that the 2002 Winter Games are over there is no longer a need for the interim rule.

DATES: This final rule is effective August 1, 2002.

FOR FURTHER INFORMATION CONTACT: For information regarding the publication of this regulation under the Administrative Procedures Act Ron Acker, Legislation and Regulations Division, Visa Office, Room L603-D, SA-1, Department of State, Washington, D.C. 20520-0106, (202) 663-1205; or e-mail: ackerrl@state.gov. For information regarding the possible effect of this regulation on individual visa applicants or any group of applicants contact the Public Inquiries Division of the Directorate for Visa Services at (202) 663-1225, or by e-mail to usvisa@state.gov.

SUPPLEMENTARY INFORMATION:

What Is the Background for This Final Rule?

On July 25, 2001, we published in the Federal Register (66 FR 38536) an interim rule entitled, “Visas: Documentation of Nonimmigrants Under the Immigration and Nationality Act; Application for Nonimmigrant Visa: XIX Olympic Winter Games and VIII Paralympic Winter Games in Salt Lake City, UT, 2002.” We received no comments on the interim rule.

The interim rule was published to provide the Department of State with legal authority to administer special visa procedures attendant to the 2002 Olympic and Paralympic Games and to issue visas on Olympic and Paralympic Identity/Accreditation Cards through the Olympic Visa Information Database (OVID 2002).

Why Is the Interim Rule Being Removed?

The Winter Olympic and Paralympic Games concluded February 24, and March 16, 2002, respectively. Consequently, the interim rule providing for special visa procedures for these two events no longer serves a practical purpose and is, consequently, hereby being removed.

Final Rule

This final rule amends the Department's regulations at 41.101, 41.102, 41.103, 41.104, 41.107, 41.112, 41.113, and 41.122.

Regulatory Analysis and Notices

Administrative Procedure Act

The Department is publishing this rule as a final rule, based on the “good cause” exceptions set forth at 5 U.S.C. 553(b)(3)(B) and 553(d)(3).

Regulatory Flexibility Act

Pursuant to section 605 of the Regulatory Flexibility Act, the Department has assessed the potential impact of this rule, and the Assistant Secretary for Consular Affairs hereby certifies that is not expected to have a significant economic impact on a substantial number of small entities and will benefit those that engage temporary agricultural workers.

Unfunded Mandates Reform Act of 1995

This rule will not result in the expenditure by State, local and tribal governments, in the aggregate, or by the private sector, of $100 million in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review. Therefore, in accordance with the letter to the Department of State of February 4, 1994 from the Director of the Office of Management and Budget, it does not require review by the Office of Management and Budget.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects in 22 CFR Part 41

Aliens, Nonimmigrants, Passports and visas.

Accordingly, the Department amends 22 CFR part 41 as follows:

PART 41—[AMENDED]

1. The authority citation for part 41 continues to read as follows:

Authority: 8 U.S.C. 1104; Public Law 105-277, 112 Stat. 2681 et seq.

§ 41.101 [Amended]

2. Remove paragraph (g) of § 41.101.

§ 41.102 [Amended]

3. Remove paragraph (c) of § 41.102.

§ 41.103 [Amended]

4. Remove paragraph (c) of § 41.103.

§ 41.104 [Amended]

5. Remove paragraph (e) of § 41.104.

§ 41.107 [Amended]

6. Remove paragraph (f) of § 41.107.

§ 41.112 [Amended]

7. Remove paragraph (f) of § 41.112.

§ 41.113 [Amended]

8. Remove paragraphs (i), (j) and (k) of § 41.113.

§ 41.122 [Amended]

9. Remove paragraphs (i) and (j) of § 41.122.

Dated: October 25, 2002.
Timothy Egert,
Federal Register Liaison, Department of State.

[FR Doc. 02-27595 Filed 10-29-02; 8:45 am]

BILLING CODE 4710-06-P